DEPARTMENT OF TRANSPORTATION

National Highway Traffic Safety Administration

Denial of Tire Defect Petition

AGENCY: National Highway Traffic Safety Administration (NHTSA), Department of Transportation.

ACTION: Denial of petition for a defect investigation.

SUMMARY: This notice sets forth the reasons for the denial of a petition submitted to NHTSA under 49 U.S.C. 30162, by Lisoni & Lisoni, Attorneys at Law, and the Law Offices of Steven E. Weinberger, requesting that the agency commence a proceeding to determine the existence of a defect related to motor vehicle safety in Firestone Steeltex light truck radial tires. After a review of the petition and other information, NHTSA has concluded that further expenditure of the agency's investigative resources on the issues raised by the petition does not appear warranted. The agency accordingly has denied the petition. The petition is hereinafter identified as DP02-011.

FOR FURTHER INFORMATION CONTACT: Mr. Gregory Magno, Safety Defects Engineer, Vehicle Control Division, Office of Defects Investigation (ODI), NHTSA, 400 Seventh Street, SW., Washington, DC 20590. Telephone: (202) 366-0139.

SUPPLEMENTARY INFORMATION:

Petition Analysis—DP02-011

Introduction

On September 29, 2000, the Office of Defects Investigation (ODI) initiated a Preliminary Evaluation (PE00-040) of Firestone Steeltex tires manufactured by Bridgestone/Firestone, Inc. (Firestone), based on 169 Vehicle Owners Questionnaires (VOQ), 167 of which were received in August and September of 2000.¹ Eight crashes involving twelve injuries and two deaths related to separation of the tread and top belt from the tire carcass (tread separation) were alleged at that time. Under investigation in that PE were all Firestone Steeltex Radial R4S, R4S II, and A/T tires manufactured since 1990.

¹ References to VOQs herein include all consumer complaints registered in the ODI complaint database.

ODI closed PE00-040 on April 9, 2002, based upon low failure rates, noting that Steeltex tire lines are used in very severe tire applications (e.g., motorhomes, commercial trucks, full-sized passenger vans, sport-utility vehicles, and pickup trucks). At the time ODI closed the investigation, it was aware of 872 relevant VOQs and 39 vehicle crashes, 24 of which involved an injury or death. These resulted in eight deaths and 40 injuries.

Subsequent to the closing of PE00-040, the Petitioners requested that the National Highway Traffic Safety Administration (NHTSA) reopen its Steeltex tire investigation.² According to the Petitioners, a reopening was warranted based on an overwhelming number of complaints that had been filed on the subject tires. ODI initiated a technical review (DP02-011) of the Petition in accordance with 49 CFR part 552 on November 26, 2002. To support this review, ODI requested that the Petitioners furnish additional documentation to substantiate their allegations. Since that time, the Petitioners have supplied ODI with 44 separate submissions numbering over 6,000 pages, the most recent of which arrived on June 5, 2003.

² Specifically, on November 15, 2002, ODI received a document entitled “A Petition to The National Highway Traffic Safety Administration . . . Subject: Investigation of Defects Present in Bridgestone/Firestone Steeltex tires (models: R4S, R4SII, A/T)” (Petition). After reviewing the document, ODI construed it as a request to reopen PE00-040. The Petition was co-submitted by Lisoni & Lisoni, Attorneys at Law and the Law Offices of Steven E. Weinberger, both in Pasadena, CA (Petitioners). The Petitioners represent plaintiffs Roger Littell, Louann Pleasant, and all others similarly situated in a class action lawsuit against Bridgestone/Firestone, filed on August 12, 2002, in the Superior Court of California for Riverside County.

The subject Steeltex tires are large light truck radials that are produced as both original equipment and replacement tires. Firestone produced approximately 39 million of these tires in three different lines (R4S, R4S II, and A/T), 12 different sizes, and 3 different load ranges. Most of the subject tires are in the highest load range for light vehicles (≤ 10,000 lb Gross Vehicle Weight Rating) Load Range E (LRE). The original equipment tires have been used on Ford and General Motors vehicles, as well as by a wide range of motorhome manufacturers.

In general, light truck radial tires are constructed with thicker gauges of rubber and heavier steel belts and are designed to hold significantly greater inflation pressures than passenger tires. These tires are more sensitive to impact damage and to variations in speed, load, and inflation pressure than passenger tires.

After reviewing information submitted in support of the Petition and analyzing additional complaint and claims information obtained from Firestone, ODI has decided to deny the request to reopen the Steeltex investigation. This decision is based on the fact that an enormous population of tires is at issue whose failure rate is lower than that of peer tires used in similar applications and has changed little since PE00-040 was closed. ODI has not identified a defect trend in any of the tires in question.

Petitioners' Allegations

The Petitioners have made numerous allegations in 44 separate submissions including over 6,000 pages of materials. These allegations include:

1. That there were 2,972 VOQs in ODI's database (as accessed via the NHTSA public Web site) as of November 2002, most of which existed when ODI closed PE00-040 but were not considered during the investigation;

2.That additional complaints gathered by the Petitioners strongly suggest a safety defect trend; and

3.That all Steeltex tires contain a safety-related defect that could lead to a catastrophic tread separation.

ODI Analysis of Petitioners' Allegations

First Allegation: VOQs in NHTSA's Web site Not Noted in Closing of PE00-040

The Petitioners allege that they identified 2,972 VOQs on the subject tires on NHTSA's Web site in October 2002. They further allege that most of these VOQs existed at the time that PE00-040 was closed. More recently, they have been quoted in the media as claiming that as of May 2003, the NHTSA Web site contained 4,000 records concerning “Steeltex-related accidents.” ³

³ Rubber & Plastics News, Lawyer: Document Shows BFS Skimped on Steeltex, May 12, 2003.

The Petitioners provided hard copy summaries of the 2,972 VOQs they identified. A review of these VOQs, however, demonstrates that a majority are duplicate records. In addition, a significant number do not involve the Steeltex tires at issue. For instance, the Petitioners included VOQs that pertain to tires such as Firestone 721 tires and Steeltex ASR tires last produced in 1992, as well as VOQs reporting issues unrelated to tread separation, such as wear and vibration. Also included in their submissions were VOQs that do not pertain to tires at all (e.g., complaints about vehicle stalling and brake malfunction).

ODI has conducted a thorough review of its complaint database to assess the Petitioners' claims. This review found that as of April 2002, when PE00-040 was closed, the database contained 930 VOQs related to a Steeltex tire failure. These include complaints about tires that were properly identified as Steeltex models or contained the word “Steeltex,” or all reasonable misspellings of the word, in the complaint description field. About 60% of these (550) cited tread separations. The numbers of VOQs alleging crashes, injuries, and deaths from tread separation failures are consistent with those reported in PE00-040.

Furthermore, ODI's review determined that as of November 2002, when the petition was submitted, the database contained 1,118 unique VOQs relating to Steeltex tire failures, less than 40% of the total asserted by the Petitioner. Of these, 672 alleged tread separations. Finally, as of May 2003, the ODI database contained 1,163 unique VOQs relating to Steeltex tire failures, 701 of which allege tread separation. These include 24 injury crashes for all tire failure modes, resulting in a total of six (6) deaths and 46 injuries. Tread separation was alleged as the failure mode in 14 of these crashes, which were responsible for all of the deaths and 30 of the injuries.

In summary, the Petitioners overstated the number of relevant VOQs received by ODI when PE00-040 was closed, when the petition was submitted, and in May 2003. Many of these discrepancies are apparently due to the Petitioners' inclusion of duplicate complaints, complaints that do not involve the tires at issue, and complaints that do not allege a tire failure.

Second Allegation: The Number of VOQs and the Number of Additional Complaints Establishes a Safety Defect Trend

The Petitioners characterize the VOQs in the ODI database and a purported 7,000 additional complaints that they have collected as evidence of a safety defect trend. This material has been furnished to ODI in 44 different submissions throughout the petition analysis period. Their submissions contain a mixture of consumer complaints, subrogation claims, police accident reports, and court filings.

The Petitioners have attributed most of their purported 7,000 complaints to certain unidentified insurance companies in the United States who have added their policyholders to the Petitioners' class action lawsuit. However, the Petitioners have stated that the majority of these remain anonymous, and therefore have not furnished details concerning these allegations to ODI. Instead, they furnished an Internet listing of 1,150 insurance companies. In view of the incomplete nature of this information, we have been unable to evaluate these complaints. Subsequently, the Petitioners submitted some insurance claim information from companies that have responded to their solicitations. In the cases reviewed by ODI, the events described are those in which the companies chose not to pursue a subrogation claim against Firestone. In one case, a submitted claim pertained to a non-subject Firehawk R4S tire.

Of those reports and complaints that ODI was able to examine, many were merely completed copies of the Petitioner's Class Action Initial Claim forms. Other “complaints” consist of excerpts from Internet chat room discussions and what appear to be handwritten notes of names and telephone numbers. In addition, the content of many of the “complaints” was of questionable value, and included complaints concerning dissatisfaction over the wear or ride of the subject tires and complaints pertaining to tires not at issue. Of note, many of these complaints originated from consumers whose claims for reimbursement had been denied by Firestone. After excluding VOQ summaries and duplicate records, ODI was able to identify 560 complaints. These included 161 complaints alleging a Steeltex tire failure, of which 99 alleged a tread separation.

ODI has monitored its VOQ database since the closing of PE00-040. This review has shown that over time, the monthly rate of Steeltex VOQs received by ODI has continually declined since the initial three-month peak that led to the opening of PE00-040. We note that the Petitioners have consistently overstated the contents of the ODI database by applying over-broad search criteria and then failing to properly identify relevant VOQs.

In order to obtain more relevant data, ODI contacted Firestone for its claims data, which it provided irrespective of whether the claim was paid. Firestone also provided warranty, personal injury, and lawsuit data through the end of 2002. ODI's analysis of this data is described in the Firestone Data section of this report.

Third Allegation: All Steeltex Tires Are Defective

The Petitioners allege that all of the subject Steeltex tires contain a safety-related defect. As evidence of this they have cited expert examination of some failed tires, information from an anonymous source regarding a Firestone cost reduction program, and alleged similarities between the Steeltex tires and the Wilderness AT tires, some of which were previously recalled by Firestone.

One of the Petitioners' consultants examined failed tires from a model year 1999 Class C motorhome belonging to the lead plaintiff in the class action lawsuit. This vehicle experienced tread separations on four of its six original tires over a one-year period. All were Steeltex R4S LT225/75R16 E tires manufactured at Firestone's Decatur, Illinois plant in 1998. The consultant identified the presence of brassy cords in the steel belts of the failed tires as evidence that they were improperly manufactured. The Petitioners provided a dissected exemplar tire from the same vehicle for ODI's examination, citing evidence of brassy cords and belt edge separation.

ODI did observe some evidence of brassy cords and localized belt edge separation in the tire presented by the Petitioners. However, ODI notes that some degree of brassy cords is not necessarily evidence of a rubber-wire adhesion defect. Moreover, the presence of moderate belt edge separation is not unusual in a steel belted radial tire that has been removed from service, and must be evaluated in the context of the tire use conditions and remaining tread. It is noteworthy that ODI's extensive investigation of the Firestone ATX and Wilderness AT tires did not find any evidence of a rubber-wire adhesion defect in those tires. The failure mechanism in the ATX and Wilderness AT tires was a cohesive failure (fatigue crack growth) through the rubber between the steel belts.⁴

⁴ More specifics concerning the tread separations examined in that investigation may be found in the EA00-023 Initial Determination Report.

In a letter dated April 26, 2003, the Petitioners submitted a copy of an anonymous letter to ODI with documents attached relating to a Firestone cost reduction initiative known as C95 that was launched in 1994 or 1995. The letter states that the intent of C95 was to obtain cost reductions without sacrificing performance and quality but that over time a negative effect on quality became evident in the warranty data. According to the letter, warranty rates of 0.5% or higher in individual tires (by factory and product code) should be cause for serious concern.

ODI has reviewed the anonymous letter and attached C95 documents submitted by the Petitioners. The second attachment is a 17-page document listing a number of changes to consider for corporate-wide implementation. The document does not relate specifically to the Steeltex tires. Firestone has stated that most of the items on the list were never implemented. While the changes that were considered include some items that could affect tire durability, the document is not in and of itself proof of a tire defect. The effect of the changes that were implemented in the Steeltex tires can ultimately be measured only by failure-related data. To that extent, ODI agrees with the author of the anonymous letter that such an analysis must be done separately on specific products and assembly plants. The only data that allow that type of analysis are the Firestone adjustments and claims.

ODI's analysis of Firestone's tread separation warranty adjustment data found that collectively the Steeltex tire tread separation adjustment rate is 0.04%. ODI also analyzed over 250 different combinations of individual tire product codes, plants, and production years and identified only one population of tires with a tread separation adjustment rate greater than 0.5%—the level of concern advanced in the anonymous letter.⁵ The adjustment rate for this tire was 0.56% for tires produced in 1993, fell to 0.09% in 1994, and remained below 0.1% through 2002 production. The majority of subject Steeltex tires analyzed by ODI have tread separation adjustment rates that are less than 0.1%. Only a few tires have rates that are above 0.25%—half of the 0.5% figure mentioned above.

⁵ Tires with annual production volumes less than 10,000 tires were not included in this analysis because of the lack of statistical significance in the data and the absence of any injury crashes involving such tires.

The Petitioners have alleged to ODI that the subject Steeltex tires are similar in construction and failure mechanism to the Wilderness AT tires investigated by ODI in EA00-023. The Petitioners have not identified any specific aspects of the designs that are similar. Moreover, the Wilderness AT tires are passenger tires designed for light-duty passenger car/truck operation, whereas the subject Steeltex light truck radial tires are designed for the greater rigors of use on heavier pickup trucks, SUVs, and vans. As noted above, there was no evidence of rubber-wire adhesion failures in the Wilderness AT tires that were recalled. Furthermore, ODI notes that belt-leaving belt tread separations may occur in any steel-belted radial tire and that the available data indicate that the risk of such failures is greater in light truck radial tires than in passenger tires.

Firestone Data

ODI reviewed thousands of Firestone property damage claims and found that between the closing of PE00-040 and the present, the subject tire tread separation claim rate grew from 28 to 31 claims per million tires produced (ppm).⁶ Steeltex LRE claim rates for tread separation grew from 38 to 40 ppm. The four largest LRE tire sizes are associated with the majority of the property damage claims and 85% (28/33) of crashes involving injuries or deaths where the tire size could be identified.

⁶ This figure is based on paid claims. Firestone furnished records of both paid and unpaid claims to ODI. Claims are not paid if the tire cannot be identified, was repaired improperly, shows obvious signs of abuse (e.g. run underinflated, impact breaks), or were found to be misapplied.

With one exception, all crashes involving an injury fall within the 1997-1999 production years of this group of LRE tires.⁷ Three tire populations within this group are associated with all fatal crashes occurring in the last five years: The R4S II LT245/75R16 E manufactured in Cuernavaca, Mexico and the A/T LT265/75R16 E and A/T LT265/75R16 D, both manufactured in Joliette, Quebec. However, a close examination of the frequencies and trends of the adjustment and claims data for these populations do not show evidence of defect trends. The adjustment and claims rates are low in comparison to peer tires, and the incidence of injury crashes do not reflect a trend for any specific tire.

⁷ A Decatur Steeltex Radial R4S LT235/85R16 E tire manufactured in 1993 was involved in a March 1996 fatal rollover of a large passenger van. Closer examination of this tire population showed no sign of a defect trend.

ODI analyzed all available data relating to the Decatur Steeltex R4S LT225/75R16 E tire installed on the lead plaintiff's motorhome. These tires were manufactured from 1995-1999 and were used as original equipment on some Ford full-size pick-up trucks and vans and sold as replacement tires. The tires were also frequently installed on Class C motorhomes on which overloading of an axle or specific wheel position is not unusual, which can contribute to tire failures. The warranty rates for these tires have been less than 0.1% from 1997 through 1999, and were never greater than 0.3%. There have been only two injury crashes associated with tread separations in these tires, both involving full-sized vans, and no fatalities.

As noted in PE00-040, the adjustment and claims tread separation rates for the subject tires are lower than those observed in peer LRE tires. This is true of the total population of subject tires, as well as individual tires analyzed by product code and assembly plant.

Discussion

The subject Steeltex tires, as defined in the Petition, represent an immense population of 39 million tires, manufactured over twelve years, and a wide variety of different tire line, size, load range, and plant combinations. The numbers of tread separation failures in those tires are functions of the large volume produced and the more severe service conditions associated with light truck radial tires, especially in the LRE category. Within this universe of experience, ODI identified a total of 54 crashes involving injury, resulting in 106 injuries and 13 deaths. Tread separation was alleged as the failure mode in 41 of these crashes, which were responsible for all of the deaths and 90 of the injuries.

These failures are distributed among a variety of different tires and assembly plants. About half of these incidents involve tires manufactured at the Joliette assembly plant, which is consistent with the number of subject tires produced there. Firestone's examination of some of the tires involved in these events has identified evidence of under-inflation, impact break, shoulder damage, un-repaired punctures, and improper repair. In addition, some of the tires that were sold as replacement tires were misapplied. While ODI has not been able to independently examine these tires, we note that the facts related to the causes of many of these events are in dispute.

ODI has monitored its VOQ database since it closed PE00-040, to identify Steeltex complaints and any related injury reports. In general, ODI has seen a continued decline in the rate of complaints received since October 2000, despite the publicity related to the Petition and associated class action lawsuit.

To better analyze specific tire lines of interest, ODI examined property damage claim and warranty adjustment data furnished by Firestone. These data are both the largest bodies of failure data and the only data available that contain the specific tire identification information necessary to conduct detailed analyses by tire line and assembly plant. The overall Steeltex claims rate rose from 28 to 31 ppm between the closing of PE00-040 and the present, while the overall adjustment rate remained constant at 0.04%. Some individual tire populations had higher rates of adjustments and claims; however, none were as high as those of the competitor LRE tires examined by ODI.

ODI examined the material submitted by the Petitioners in an effort to identify tire failures and crashes involving injury that could indicate the presence of a safety-related defect trend. Within this material, there were reports of 115 additional tire failures beyond those considered in PE00-040. These included three injury crashes, which led to four (4) injuries. Therefore, the fundamental statistics concerning the performance of the subject tires have changed little since PE00-040 was closed.

Conclusion

Based on ODI's analysis of information submitted in support of the Petition and additional complaint and claims information received since the closing of PE00-040, it is unlikely that NHTSA would issue an order for the notification and remedy of a safety-related defect in the subject Steeltex tires at the conclusion of the investigation requested in the Petition. The statistics concerning the performance of these tires have changed little since the closing of PE00-040 and no specific defect trend has been identified. Therefore, in view of the need to allocate and prioritize NHTSA's limited resources to best accomplish the agency's safety mission, ODI has decided to deny the petition to reopen the Steeltex investigation. ODI will continue to monitor the performance of these tires for any signs that a defect trend may be developing.

Authority: 49 U.S.C. 30162(d); delegations of authority at CFR 1.50 and 501.8.

Issued on: June 11, 2003.
Kenneth N. Weinstein,
Associate Administrator for Enforcement.

[FR Doc. 03-15191 Filed 6-16-03; 8:45 am]

BILLING CODE 4910-59-P